NUCLEAR REGULATORY COMMISSION

[Docket Nos. 50-266 and 50-301; NRC-2020-0277]

NextEra Energy Point Beach, LLC; Point Beach Nuclear Plant, Units 1 and 2; Subsequent License Renewal and Record of Decision

AGENCY: Nuclear Regulatory Commission.

ACTION: Notice; issuance.

SUMMARY: The U.S. Nuclear Regulatory Commission (NRC) has issued Subsequent Renewed Facility Operating License Nos. DPR-24 and DPR-27 to NextEra Energy Point Beach, LLC (NextEra or the licensee) for Point Beach Nuclear Plant (Point Beach), Units 1 and 2, respectively. In addition, the NRC has prepared a record of decision (ROD) that supports the NRC's decision to issue Subsequent Renewed Facility Operating License Nos. DPR-24 and DPR-27.

DATES: Subsequent Renewed Facility Operating License Nos. DPR-24 and DPR-27 were issued on September 29, 2025.

ADDRESSES: Please refer to Docket ID NRC-2020-0277 when contacting the NRC about the availability of information regarding this document. You may obtain publicly available information related to this document using any of the following methods:

• Federal Rulemaking Website: Go to https://www.regulations.gov and search for Docket ID NRC-2020-0277. Address questions about Docket IDs in Regulations.gov to Bridget Curran; telephone: 301-415-1003; email: Bridget.Curran@nrc.gov. For technical questions, contact the individual(s) listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Angela Wu, Office of Nuclear Reactor Regulation, U.S. Nuclear Regulatory Commission, Washington, DC 20555-0001; telephone: 301-415-2995; email: Angela.Wu@nrc.gov.

SUPPLEMENTARY INFORMATION:

I. Discussion

Notice is hereby given that the NRC has issued Subsequent Renewed Facility Operating License Nos. DPR-24 and DPR-27 to NextEra for Point Beach. NextEra is the operator of the facility. Subsequent Renewed Facility Operating License Nos. DPR-24 and DPR-27 authorize operation of Point Beach by NextEra at reactor core power levels not in excess of 1,800 megawatts thermal (MWt) for each unit, in accordance with the provisions of the Point Beach subsequent renewed licenses and the technical specifications. Notice is also given that the ROD that supports the NRC's decision to issue Subsequent Renewed Facility Operating License Nos. DPR-24 and DPR-27 is available, and its location is listed in the “Availability of Documents” section of this document.

As discussed in the ROD and the final supplemental environmental impact statement (SEIS), published as NUREG-1437, Supplement 23, Second Renewal, “Generic Environmental Impact Statement for License Renewal of Nuclear Plants, Supplement 23, Second Renewal, Regarding Subsequent License Renewal for Point Beach Nuclear Plant Units 1 and 2, Final Report,” dated August 2025, the final SEIS documents the NRC staff's environmental review, including the recommendation that the adverse environmental impacts of subsequent license renewal (SLR) for Point Beach are not so great that preserving the option of SLR for energy-planning decisionmakers would be unreasonable. This recommendation is based on (1) the NRC's Generic Environmental Impact Statement for License Renewal of Nuclear Plants (LR GEIS); (2) information in the environmental report submitted by NextEra, as supplemented; (3) the staff's consultation with Federal, State, local, and Tribal agencies; (4) the staff's independent environmental review; and (5) the staff's consideration of public comments received during the scoping process and on the 2021 draft SEIS and the 2025 second draft SEIS.

The Point Beach units are pressurized-water reactors located near Two Rivers, Wisconsin. NextEra submitted its application for the subsequent renewed licenses, “Point Beach Nuclear Plant Units 1 and 2, Application for Subsequent Renewed Facility Operating Licenses,” on November 16, 2020, as supplemented by letters through April 1, 2025 (see “Availability of Documents” section of this document). The NRC staff has determined that NextEra's application complies with the standards and requirements of the Atomic Energy Act of 1954, as amended (the Act), and the NRC's regulations. As required by the Act and NRC regulations in title 10 of the Code of Federal Regulations (10 CFR), the NRC has made the appropriate findings, which are set forth in the subsequent renewed licenses.

On February 1, 2021, the NRC published a notice in the Federal Register (86 FR 7747) informing the public of the NRC staff's intent to conduct an environmental scoping process regarding NextEra's application. In November 2021, the staff issued a draft SEIS. On August 6, 2024, the NRC published a final rule (89 FR 64166) updating its license renewal environmental review requirements at 10 CFR part 51, “Environmental Protection Regulations for Domestic Licensing and Related Regulatory Functions.” As part of this update, the NRC issued Revision 2 of the LR GEIS. Thereafter, to complete the Point Beach SLR environmental review, the staff prepared a supplement (second draft SEIS) to the 2021 draft SEIS to consider the new and modified environmental issues in the final rule, as applicable, as well as any new and significant information since the 2021 draft SEIS. In April 2025, the staff issued the second draft SEIS for public comment (90 FR 16008). Based on the information gathered during the public comment period and any other new information received, the staff developed a final SEIS by incorporating both the 2021 draft SEIS and the 2025 second draft SEIS, along with any necessary changes made in response to comments and other information. The final SEIS was issued on August 8, 2025. Separately, in February 2022, the staff issued its Safety Evaluation (SE) regarding its Point Beach SLR safety review, as corrected in May 2022. A supplement to this SE was issued in August 2025.

For further details with respect to this action, see (1) NextEra's SLR application for Point Beach, dated November 16, 2020, as supplemented by letters through April 1, 2025; (2) the NRC's SE, dated May 25, 2022, and its supplement dated August 27, 2025; (3) the NRC's final SEIS, dated August 2025; and (4) the NRC's ROD, dated September 29, 2025.

II. Availability of Documents

The documents identified in the following table are available to interested persons through ADAMS, as indicated.

Document description | ADAMS accession no.
Record of Decision, Subsequent License Renewal Application, as Supplemented, for Point Beach Nuclear Plant, Units 1 and 2, dated September 29, 2025. | ML25223A031.
Safety Evaluation Related to the Subsequent License Renewal of Point Beach Nuclear Plant, Units 1 and 2, dated February 23, 2022. | ML22054A108.
Safety Evaluation Related to the Subsequent License Renewal of Point Beach Nuclear Plant, Units 1 and 2, Revision 1, dated May 25, 2022. | ML22140A127.
Point Beach Nuclear Plant, Units 1 and 2—Supplement to the Safety Evaluation for the Subsequent License Renewal Application Review, dated August 27, 2025. | ML25206A017.
NUREG-1437, Generic Environmental Impact Statement for License Renewal of Nuclear Plants, Supplement 23, Second Renewal, Regarding Subsequent License Renewal for Point Beach Nuclear Plant Units 1 and 2, Final Report, dated August 2025. | ML25191A238.
Point Beach Nuclear Plant, Units 1 and 2, Application for Subsequent Renewed Operating License, dated November 16, 2020. | ML20329A292 (Package).
Point Beach Nuclear Plant Units 1 and 2—Subsequent License Renewal Application—Aging Management Supplement 1, dated April 21, 2021. | ML21111A155.
Point Beach Nuclear Plant, Units 1 and 2—Subsequent License Renewal Application, Aging Management Supplement 2, dated May 6, 2021. | ML21126A239.
Point Beach Nuclear Plant Units 1 and 2—Subsequent License Renewal Application, Environmental Report Supplement 1, dated May 10, 2021. | ML21131A105.
Point Beach Nuclear Plant Units 1 and 2—Subsequent License Renewal Application—Aging Management Supplement 3, dated May 27, 2021. | ML21147A115.
Point Beach Nuclear Plant, Units 1 and 2, Subsequent License Renewal Application Environmental Report Review Requests for Confirmation of/Additional Information (RCI/RAl) Set Response, dated June 10, 2021. | ML21161A214.
Point Beach Nuclear Plant, Units 1 and 2—Subsequent License Renewal Application: Aging Management Requests for Confirmation of/Additional Information (RCI/RAI) Set 1 Responses, dated July 8, 2021. | ML21189A173.
Subsequent License Renewal Application—Aging Management Supplement 3 Revision 1, dated July 26, 2021. | ML21207A066.
Point Beach Nuclear Plant, Units 1 and 2—Subsequent License Renewal Application—Aging Management Requests for Additional Information (RAI) Set 2 Responses, dated August 11, 2021. | ML21223A308.
Point Beach, Units 1 and 2—Subsequent License Renewal Application—Aging Management Requests For Confirmation Of/Additional Information (RCI/RAI) Set 3 Responses, dated August 25, 2021. | ML21237A055.
Point Beach Nuclear Plant Units 1 and 2—Subsequent License Renewal Application on Aging Management—Request for Additional Information (RAI), Set 4 Response, dated August 30, 2021. | ML21242A230.
Point Beach Nuclear Plant, Units 1 and 2, Submittal of Subsequent License Renewal Application—Aging Management Requests for Confirmation of/Additional Information (RCI/RAI) Set 1 Responses Supplement 1, dated September 10, 2021. | ML21253A138.
Point Beach Nuclear Plant Units 1 and 2, L-2021-157 Subsequent License Renewal Application—Aging Management Requests For Additional Information (RAI) Set 6 Responses, dated September 10, 2021. | ML21253A140.
Point Beach Nuclear Plant, Units 1 and 2, Subsequent License Renewal Application—Aging Management Requests for Additional Information Set 5 Responses, dated September 13, 2021. | ML21256A129.
Point Beach Nuclear Plant, Units 1 and 2—Subsequent License Renewal Application—Aging Management Request for Additional Information (RAI) Set 8 Response, dated September 16, 2021. | ML21259A153.
Point Beach Nuclear Plant, Units 1 and 2, Subsequent License Renewal Application—Aging Management Requirement for Additional Information Set 7, Response, dated September 20, 2021. | ML21263A052.
NextEra Energy Point Beach, LLC—Subsequent License Renewal Application—Aging Management Request For Additional Information (RAI) Set 9 Response, dated October 1, 2021. | ML21274A053.
Point Beach Nuclear Plant Units 1 and 2—Subsequent License Renewal Application—Aging Management Requests for Additional Information (RAI) Set 11 Response, dated October 25, 2021. | ML21298A090.
Subsequent License Renewal Application—Aging Management Requests for Additional Information (RAI) Set 2 Responses Revision 1, dated November 3, 2021. | ML21307A286.
Point Beach Nuclear Plant Units 1 and 2—Subsequent License Renewal Application—Aging Management Requests for Additional Information (RAI) Set 10 Responses, dated November 4, 2021. | ML21308A282.
Subsequent License Renewal Application—Aging Management Requests for Additional Information (RAI) Set 9 Response Supplement 1, dated November 4, 2021. | ML21308A283.
Subsequent License Renewal Application—Aging Management Requests for Additional Information (RAI) Set 11 Response Revision 1, dated November 23, 2021. | ML21327A077.
Point Beach Nuclear Plant—Subsequent License Renewal Application—First Annual Update, dated November 30, 2021. | ML21334A293.
Point Beach Nuclear Plant Units 1 and 2—Subsequent License Renewal Application—Aging Management Requests for Additional Information (RAI) Set 12 Response, dated December 9, 2021. | ML21343A294.
Point Beach Nuclear Plant, Units 1 and 2, Subsequent License Renewal Application—Aging Management Request for Additional Information Set 13 Response, dated January 6, 2022. | ML22006A074.
Point Beach Nuclear Plant Units 1 and 2—Subsequent License Renewal Application Aging Management Requests for Additional Information (RAI) Set 14 Response, dated January 6, 2022. | ML22006A046.
Point Beach Nuclear Plant, Units 1 and 2, Schedule for Subsequent License Renewal Environmental Review, dated June 25, 2024. | ML24177A223.
Point Beach, Units 1 and 2, Subsequent License Renewal Application Environmental Review Supplemental Environmental Audit December 2, 2024 L-2024-182 10 CFR 54 Response to Requests for Confirmation of Information and Requests for Additional Information, dated December 2, 2024. | ML24337A109.
Point Beach Nuclear Plant Units 1 and 2—Subsequent License Renewal Application—Third Annual Update, dated December 13, 2023. | ML23347A094.
Point Beach Nuclear Plant, Units 1 and 2, Subsequent License Renewal Application—Fourth Annual Update, dated November 25, 2024. | ML24330A102.
Point Beach Nuclear Plant, Units 1 and 2, Subsequent License Renewal Application—Fourth Annual Update Revision 1, dated April 1, 2025. | ML25091A077.
NUREG-1437, Revision 2, Volumes 1, 2, and 3, Generic Environmental Impact Statement for License Renewal of Nuclear Plants, dated August 2024. | ML24087A133 (Package).

Dated: September 29, 2025.
For the Nuclear Regulatory Commission.
Michele Sampson,
Director, Division of New and Renewed Licenses, Office of Nuclear Reactor Regulation.

[FR Doc. 2025-19194 Filed 9-30-25; 8:45 am]

BILLING CODE 7590-01-P